DEPARTMENT OF DEFENSE

Office of the Secretary

Defense Science Board

AGENCY: Department of Defense.

ACTION: Notice of Advisory Committee meeting.

SUMMARY: The Defense Science Board (DSB) Task Force on Wideband RadioFrequency Systems will meet in closed session on June 3-4, 2002; June 24-25, 2002; July 25-26, 2002; August 29-30, 2002; September 26-27, 2002; October 21-22, 2002; and November 21-22, 2002; at Strategic Analysis Inc., 3601 Wilson Boulevard, Arlington, VA. The Task Force will review key aspects of the policy and technology issues associated with the military applications of Wideband Radio Frequency (RF) systems.

The mission of the Defense Science Board is to advise the Secretary of Defense and the Under Secretary of Defense for Acquisition, Technology & Logistics on scientific and technical matters as they affect the perceived needs of the Department of Defense. At these meetings, the Defense Science Board Task Force will examine. (1) Technical issues associated with the employment of Wideband RF modulation by the Department of Defense (DoD) and Defense-related agencies and its potential impact on other defense and non-Defense users of the RF spectrum; (2) technical issues associated with the employment of Wideband modulation techniques by Defense related agencies taking into account the concurrent interagency review of spectrum requirements for advanced wireless mobile services (third generation) led by the National Telecommunications and Information Administration and the Federal Communications Commission; (3) implications of the employment of Wideband modulation techniques for US policy at the forthcoming World Administrative Radio Conference; (4) technical impact of the DoD employment of Wideband RF modulation on other users of the RF spectrum; (5) the potential limitations of exploiting variable code length and bandwidth-on-demand characteristics using packet switching techniques to meet DoD's long-term communications requirements; and (6) implications for the cost and technical risk associated with the extensive use of Wideband RF modulation by the DoD.

In accordance with Section 10(d) of the Federal Advisory Committee Act, Pub. L. 92-463, as amended (5 U.S.C. App. II), it has been determined that these Defense Science Board Task Force meetings concern matters listed in 5 U.S.C. 552b(c)(1) and that, accordingly, these meetings will be closed to the public.

Dated: May 3, 2002.
Patricia L. Toppings,
Alternate OSD Federal Register Liaison Officer, Department of Defense.

[FR Doc. 02-11532 Filed 5-8-02; 8:45 am]

BILLING CODE 5001-08-M